DEPARTMENT OF HEALTH AND HUMAN SERVICES

National Institutes of Health

Center for Scientific Review; Amended Notice of Meeting

Notice is hereby given of a change in the meeting of the Molecular Neurogenetics Study Section, October 13, 2022, 8:30 a.m. to October 14, 2022, 7:30 p.m., National Institutes of Health, 6701 Rockledge Drive, Bethesda, MD 20892, which was published in the Federal Register on September 12, 2022, 87 FR 55826, Doc 2022-19603.

This notice is being amended to change the start time from 8:30 a.m. to 9:00 a.m. The meeting is closed to the public.

Dated: September 13, 2022.
David W. Freeman,
Program Analyst, Office of Federal Advisory Committee Policy.

[FR Doc. 2022-20178 Filed 9-16-22; 8:45 am]

BILLING CODE 4140-01-P